DEPARTMENT OF THE INTERIOR

Bureau of Land Management

[CO-921-03-1320-EL; COC-072069]

Notice of Invitation for Coal Exploration License Application, Bowie Resources, LLC. COC-072069; Colorado

AGENCY: Bureau of Land Management, Interior.

ACTION: Notice of Invitation for Coal Exploration License.

SUMMARY: Pursuant to section 2(b) of the Mineral Leasing Act of 1920, as amended, by section 4 of the Federal Coal Leasing Amendments Act of 1976, Stat. 1083, 30 U.S.C. 201(b), and to the regulations adopted as 43 Code of Federal Regulations (CFR), part 3410, all interested parties are hereby invited to participate with Bowie Resources, LLC, on a pro rata cost sharing basis in a program for the exploration of unleased coal deposits owned by the United States of America in Delta County, Colorado:

T 12 S, R 91, 6th P.M. in Delta County, Colorado.

Sec. 29, S2;

Sec. 31, S2; Lots 7-26;

Sec. 32, All;

Sec. 33, W2NW; and

T 12 S, R 92 W

Sec. 35, All;

Sec. 36, All.

Containing 3,381 acres.

DATES: Any party electing to participate in this exploration program must send written notice to both the Bureau of Land Management (BLM) and Bowie Resources, LLC, as provided in the ADDRESSES section below, no later than 30 days after publication of this invitation in the Federal Register.

ADDRESSES: Copies of the exploration plan and license application (serialized under the number of COC-072069) are available for review during normal business hours in the public room of the BLM State Office, 2850 Youngfield Street, Lakewood, Colorado 80215, and at the Uncompahgre Field Office, 2505 South Townsend Avenue, Montrose, Colorado 81401. The written notice to participate in the exploration plan should be sent to both, Kurt M. Barton, CO-921, Solid Minerals Staff, Division of Energy, Lands and Minerals, Colorado State Office, Bureau of Land Management, 2850 Youngfield Street, Lakewood, Colorado 80215; and, Collin Stewart, Bowie Resources, LLC, PO Box 483, Paonia, CO 81428.

SUPPLEMENTARY INFORMATION: This coal exploration license will be issued by the BLM. The exploration program is fully described and is being conducted pursuant to an exploration plan approved by the BLM. The plan may be modified to accommodate the legitimate exploration needs of persons seeking to participate. This notice of invitation to participate was published in The Delta County Independent, once a week for two consecutive weeks beginning the first week of December 2007 and in the Federal Register. The forgoing is published in the Federal Register pursuant to 43 CFR 3410.2-1(c)(1).

Kurt M. Barton,
Solid Minerals Staff, Division of Energy, Lands and Minerals.

[FR Doc. E7-25586 Filed 1-2-08; 8:45 am]

BILLING CODE 4310-JB-P